DEPARTMENT OF HOMELAND SECURITY

Federal Emergency Management Agency

[Docket ID FEMA-2020-0002]

Final Flood Hazard Determinations

AGENCY: Federal Emergency Management Agency, DHS.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of September 18, 2020 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Department of Homeland Security, Federal Emergency Management Agency.

Community | Community map repository address
City and Borough of Juneau, Alaska
Docket No.: FEMA-B-1811
City and Borough of Juneau | Marine View Building, 230 South Franklin Street, Juneau, AK 99801.
Fairbanks North Star Borough, Alaska
Docket No.: FEMA-B-1940
Fairbanks North Star Borough | Department of Community Planning, Juanita Helms Administrative Center, 907 Terminal Street, Fairbanks, AK 99701.
Maricopa County, Arizona and Incorporated Areas
Docket Nos.: FEMA-B-1557 and FEMA-B-1630
City of Avondale | Development and Engineering Services Department, 11465 West Civic Center Drive, Avondale, AZ 85323.
City of El Mirage | City Hall, 10000 North El Mirage Road, El Mirage, AZ 85335.
City of Glendale | City Hall, 5850 West Glendale Avenue, Glendale, AZ 85301.
City of Goodyear | Engineering Department, 14455 West Van Buren Street, Suite D-101, Goodyear, AZ 85338.
City of Peoria | City Hall, 8401 West Monroe Street, Peoria, AZ 85345.
City of Phoenix | Street Transportation Department, 200 West Washington Street, 5th Floor, Phoenix, AZ 85003.
City of Tempe | Engineering Department, City Hall, 31 East 5th Street, Tempe, AZ 85281.
Town of Wickenburg | Town Hall, 155 North Tegner Street, Wickenburg, AZ 85390.
Unincorporated Areas of Maricopa County | Flood Control District of Maricopa County, 2801 West Durango Street, Phoenix, AZ 85009.
Allamakee County, Iowa and Incorporated Areas
Docket No.: FEMA-B-1911
City of Harpers Ferry | City Hall, 238 North 4th Street, Harpers Ferry, IA 52146.
City of Lansing | City Hall, 201 John Street, Lansing, IA 52151.
City of New Albin | Municipal Building, 164 Elm Street Northeast, New Albin, IA 52160.
City of Postville | City Hall, 147 North Lawler Street, Postville, IA 52162.
City of Waterville | City Hall, 82 Main Street, Waterville, IA 52170.
City of Waukon | City Hall, 101 Allamakee Street, Waukon, IA 52172.
Unincorporated Areas of Allamakee County | Allamakee County Courthouse, 110 Allamakee Street, Waukon, IA 52172.
Spencer County, Kentucky and Incorporated Areas
Docket No.: FEMA-B-1918
City of Taylorsville | Spencer County Planning and Zoning, 220 Main Cross, Taylorsville, KY 40071.
Unincorporated Areas of Spencer County | Spencer County Planning and Zoning, 220 Main Cross, Taylorsville, KY 40071.
Dent County, Missouri and Incorporated Areas
Docket No.: FEMA-B-1945
City of Salem | City Administration Building, 400 North Iron Street, Salem, MO 65560.
Unincorporated Areas of Dent County | Dent County Courthouse, 400 North Main Street, Salem MO 65560.
Madison County, Virginia and Incorporated Areas
Docket No.: FEMA-B-1921
Unincorporated Areas of Madison County | Madison County Administrative Center, 414 North Main Street, Madison, VA 22727.
Grays Harbor County, Washington and Incorporated Areas
Docket No.: FEMA-B-1920
City of Elma | Elma City Hall, 202 West Main Street, Elma, WA 98541.
City of Montesano | City Hall, 112 North Main Street, Montesano, WA 98563.
City of Oakville | City Hall, 204 East Main Street, Oakville, WA 98568.
Confederated Tribes of Chehalis Reservation | Chehalis Tribal Center, 420 Howanut Road, Oakville, WA 98568.
Unincorporated Areas of Grays Harbor County | Grays Harbor Administration Building, 100 West Broadway, Suite 31, Montesano, WA 98563.

[FR Doc. 2020-09279 Filed 4-30-20; 8:45 am]

BILLING CODE 9110-12-P